DEPARTMENT OF THE INTERIOR

Bureau of Reclamation

Madera Irrigation District Water Supply Enhancement Project

AGENCY: Bureau of Reclamation, Interior.

ACTION: Notice of availability and notice of public meeting for the Draft Environmental Impact Statement (Draft EIS).

SUMMARY: The Bureau of Reclamation (Reclamation) has made available for public review and comment the Draft EIS for the Madera Irrigation District Water Supply Enhancement Project (MID WSEP). Reclamation proposes to approve the banking of up to 55,000 acre-feet per year of Central Valley Project (CVP) water outside the MID service area and the alteration of Reclamation-owned facilities. The total banking capacity of the MID WSEP is 250,000 acre-feet.

The draft EIS evaluates the potential environmental effects of the proposed MID WSEP on the property known as Madera Ranch (west of the City of Madera, Madera County, CA), and the improvements to associated facilities needed to operate the MID WSEP. Portions of the 24.2 Canal, Section 8 Canal, Main Number 1 Canal, Cottonwood Creek, and Gravelly Ford Canal would be enlarged, extended, or improved.

The MID WSEP would be completed in two phases. Phase 1 would involve recharge-related facilities only. Phase 2 would involve supplemental recharge facilities and facilities for recovery of banked water. The draft EIS addresses both phases.

DATES: Submit written comments on the draft environmental document on or before September 25, 2009.

A public meeting will be held on August 27, 2009 from 5 to 6:30 p.m. in Madera, CA to discuss the purpose and content of the draft environmental document and to provide the public an opportunity to comment on the draft environmental document. Written comments will also be accepted at the public meeting.

ADDRESSES: The public meeting will be held at Madera Irrigation District Office, 2152 Road 28¼, Madera, CA 93637.

Written comments on the Draft EIS should be addressed to Ms. Patricia Clinton, Bureau of Reclamation, 1243 N Street, Fresno, CA 93721-1831.

Copies of the draft document may be requested from Ms. Patricia Clinton at the above address, by calling 559-487-5127, TDD 559-487-5933, or at pclinton@usbr.gov. See Supplementary Information section for locations where copies of the Draft EIS are available.

FOR FURTHER INFORMATION CONTACT: Ms. Patricia Clinton, Bureau of Reclamation at the phone numbers or e-mail address above.

SUPPLEMENTARY INFORMATION: Groundwater levels in the Madera subbasin have experienced steep declines. These conditions have made it increasingly expensive for farmers to pump groundwater. In addition, in many years, MID has been unable to deliver sufficient surface water to farmers either because surface water is available primarily during the early months of the year when irrigation demand is low, or surface water is available only for short periods of time during the growing season.

To increase water storage, enhance water supply reliability and flexibility for current and future water demand and reduce local overdraft, MID proposes to implement the WSEP. MID would bank CVP water and other imported water in the aquifer underlying Madera Ranch. In wet years, water would be banked in the overdrafted aquifer for use in dry years. To help alleviate the overdraft condition, 10 percent of the water banked would remain in the aquifer.

The Draft EIS considers the direct, indirect, and cumulative effects on the physical, natural, and human environment that may result from the construction and operation of a water bank on Madera Ranch. The Draft EIS addresses potentially significant environmental issues and recommends adequate and feasible mitigation measures to reduce or eliminate significant environmental impacts, where possible. Three banking alternatives as well as the no action alternative are addressed.

Copies of the Draft EIS are available for public review at the following locations:

• Bureau of Reclamation, Denver Office Library, Building 67, Room 167, Denver Federal Center, 6th and Kipling, Denver, CO 80225.

• Natural Resources Library, U.S. Department of the Interior, 1849 C Street, NW., Main Interior Building, Washington, DC 20240-0001.

• Bureau of Reclamation, Mid-Pacific Regional Office Library, 2800 Cottage Way, W-1825, Sacramento, CA 95825-1898.

• Bureau of Reclamation, South-Central California Area Office, 1243 N Street, Fresno, CA 93721-1831.

• Madera Library, 121 North G Street, Madera, CA 93637.

• Chowchilla Library, 300 Kings Avenue, Chowchilla, CA 93610.

• Madera Ranchos Library, 37167 Ave 12 Suite 4C, Madera, CA 93636.

• Fresno County Public Library, 2420 Mariposa, Fresno, CA 93721.

• Clovis Regional Library, 1155 Fifth Street, Clovis, CA 93612.

If special assistance is required at the public meeting, please contact Ms. Patricia Clinton at 559-487-5127, TDD 559-487-5933, or at pclinton@usbr.gov no less than five working days before the meeting to allow Reclamation to secure the needed services. If a request cannot be honored, the requestor will be notified.

Before including your name, address, phone number, e-mail address, or other personal identifying information in your comment, you should be aware that your entire comment—including your personal identifying information—may be made publicly available at any time. While you can ask us in your comment to withhold your personal identifying information from public review, we cannot guarantee that we will be able to do so.

Dated: March 23, 2009.
Richard M. Johnson,
Acting Regional Director, Mid-Pacific Region.

Editorial Note: This document was received in the Office of the Federal Register on July 22, 2009.

[FR Doc. E9-17793 Filed 7-24-09; 8:45 am]

BILLING CODE 4310-MN-P